DEPARTMENT OF THE INTERIOR

Bureau of Land Management

[CO-SJFO-01-0001EIS]

Draft Environmental Impact Statement Oil and Gas Development on the Southern Ute Indian Reservation

AGENCY: Bureau of Land Management, Interior.

ACTION: Extension of comment period and notice of public meeting.

SUMMARY: The Bureau of Land Management published a Notice of Availability of the Draft Environmental Impact Statement Oil and Gas Development on the Southern Ute Indian Reservation on January 5, 2001, (FR Vol. 66, No. 4, page 1152). Included in the notice was that comments would be received until March 6, 2001. This notice extends the comment period from March 6, 2001, until March 20, 2001. This notice also serves as notice of a public meeting to be held on the DEIS on February 27, 2001.

DATES: Written comments will be accepted on the Draft Environmental Impact Statement until March 20, 2001. The public meeting on the DEIS will be held on February 27, 2001.

ADDRESSES: The public meeting will be held at Rolling Thunder Hall, 14826 Hwy 172, Ignacio, Colorado, from 6-8 pm (MST). Please address questions, comments, or request for copies of the DEIS to the Bureau of Land Management, San Juan Field Office, Attn: Donald Englishman, 15 Burnett Court, Durango, CO 81310.

FOR FURTHER INFORMATION CONTACT: Donald Englishman at the above address or phone: 970-385-1346.

Dated: January 30, 2001.
Calvin N. Joyner,
San Juan Field Office Manager, Colorado, Bureau of Land Management, USDI.

[FR Doc. 01-3513 Filed 2-9-01; 8:45 am]

BILLING CODE 4310-JB-M